POSTAL REGULATORY COMMISSION

[Docket No. RM2020-9; Order No. 5738]

Periodic Reporting

AGENCY: Postal Regulatory Commission.

ACTION: Notice.

SUMMARY: The Commission is establishing a comment deadline in this docket. This notice informs the public of the filing, invites public comment, and takes other administrative steps.

DATES: Comments are due: December 15, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: A video technical conference was held online in this proceeding via WebEx on September 29, 2020, to consider matters raised by the United Parcel Service proposal (UPS Proposal One) that is the subject of this docket.¹ In its order establishing this proceeding, the Commission stated that it would issue further orders prescribing additional procedures. Order No. 5586 at 6. To afford interested persons an opportunity to address matters raised by UPS Proposal One and discussed at the September 29, 2020 technical conference, the Commission is hereby establishing December 15, 2020, as the deadline for filing written comments.

¹ See Notice and Order Establishing Docket to Obtain Information Regarding Proposed Changes to Cost Methodologies and Scheduling Technical Conference, July 13, 2020, at 3-5 (Order No. 5586).

It is ordered:

1. Comments by interested persons shall be filed on or before December 15, 2020.

2. The Secretary shall arrange for publication of this order in the Federal Register.

By the Commission.
Erica A. Barker,
Secretary.

[FR Doc. 2020-24115 Filed 10-30-20; 8:45 am]

BILLING CODE 7710-FW-P